DEPARTMENT OF LABOR

Employment and Training Administration

[TA-W-82,926]

Salter Labs, a Subsidiary of Roundtable Healthcare Partners Including On-Site Leased Workers From Select Staffing, Kelly Services and Exact Staff, Arvin, California; Amended Certification Regarding Eligibility To Apply for Worker Adjustment Assistance

In accordance with Section 223 of the Trade Act of 1974, as amended (“Act”), 19 U.S.C. 2273, the Department of Labor issued a Certification of Eligibility To Apply for Worker Adjustment Assistance on August 2, 2013, applicable to workers of Salter Labs, a subsidiary of RoundTable Healthcare Partners, including on-site leased workers from Select Staffing and Kelly Services, Arvin, California. The workers are engaged in employment related to the production of respiratory products (medical devices). The notice was published in the Federal Register on August 27, 2013 (78 FR 52979).

At the request of the California State agency, the Department reviewed the certification for workers of the subject firm. New information from the company shows that workers leased from Exact Staff were employed on-site at the Arvin, California location of Salter Labs, a subsidiary of RoundTable Healthcare Partners. The Department has determined that these workers were sufficiently under the control of Salter Labs to be considered leased workers.

The intent of the Department's certification is to include all workers of the subject firm who were adversely affected by a shift in the production of respiratory products (medical devices) to a foreign country.

Based on these findings, the Department is amending this certification to include workers leased from Exact Staff working on-site at the Arvin, California location of the subject firm.

The amended notice applicable to TA-W-82,926 is hereby issued as follows:

All workers from Salter Labs, a subsidiary of RoundTable Healthcare Partners, including on-site leased workers from Select Staffing, Kelly Services and Exact Staff, Arvin, California, who became totally or partially separated from employment on or after July 22, 2012, through August 2, 2015, and all workers in the group threatened with total or partial separation from employment on date of certification through two years from the date of certification, are eligible to apply for adjustment assistance under Chapter 2 of Title II of the Trade Act of 1974, as amended.

Signed at Washington, DC, this 25th day of October 2013.
Del Min Amy Chen,
Certifying Officer, Office of Trade Adjustment Assistance.

[FR Doc. 2013-26498 Filed 11-5-13; 8:45 am]

BILLING CODE 4510-FN-P